DEPARTMENT OF VETERANS AFFAIRS

Advisory Committee on Disability Compensation, Notice of Meeting

The Department of Veterans Affairs (VA) gives notice under the Federal Advisory Committee Act, 5 U.S.C. App. 2, that the meeting of the Advisory Committee on Disability Compensation (Committee), previously scheduled to be held at the U.S. Department of Veterans Affairs, 810 Vermont Avenue NW., Room 720, Washington, DC, on January 26-28, 2015 has been cancelled.

For more information, please contact Ms. Nancy Copeland, Designated Federal Officer at (202) 461-9684 or via email at Nancy.Copeland@va.gov.

Dated: January 26, 2015.
Rebecca Schiller,
Federal Advisory Committee Management Officer.

[FR Doc. 2015-01694 Filed 1-28-15; 8:45 am]

BILLING CODE 8320-01-P